DEPARTMENT OF HEALTH AND HUMAN SERVICES

National Institutes of Health

National Institutes on Aging; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of person privacy.

Name of Committee: National Institute on Aging Special Emphasis Panel, Biology of Vascular Smooth Muscle Cells in Aging.

Date: February 12-13, 2001.

Time: 6 p.m. to 5 p.m.

Agenda: To review and evaluate grant applications.

Place: Riande Continental Miami Beach Hotel, 1825 Collins Avenue, Miami Beach, FL 33139.

Contact Person: James P. Harwood, PhD., Deputy Chief, Scientific Review Office, The Bethesda Gateway Building, 7201 Wisconsin Avenue/Suite 2C212, Bethesda, MD 20892, (301) 496-9666.

This notice is being published less than 15 days prior to the meeting due to the timing limitations imposed by the review and funding cycle.

Name of Committee: National Institute on Aging Special Emphasis Panel, Signal Transduction and Alzheimer's Disease.

Date: February 12-13, 2001

Time: 7 p.m. to 4 p.m.

Agenda: To review and evaluate grant applications.

Place: Bentley Hotel, 500 E 62nd Street, New York, NY 33139.

Contact Person: Ramesh Vemuri, PhD, Office of Scientific Review, National Institute on Aging, The Bethesda Gateway Building, 7201 Wisconsin Avenue, Suite 2C212, Bethesda, MD 20892, (301) 496-9666.

This notice is being published less than 15 days prior to the meeting due to the timing limitations imposed by the review and funding cycle.

Name of Committee: National Institute on Aging Special Emphasis Panel, MICROARRAY CONTRACT REVIEW.

Date: February 15, 2001.

Time: 2 p.m. to 3 p.m.

Agenda: To review and evaluate contract proposals

Place: 7201 Wilson Avenue Bethesda, MD 20892 (Telephone Conference Call)

Contact Person: Ramesh Vemuri, PhD., Office of Scientific Review, National Institute on Aging, The Bethesda Gateway Building, 7201 Wisconsin Avenue Suite 2C212, Bethesda, MD 20892, (301) 496-9666.

This notice is being published less than 15 days prior to the meeting due to the timing limitations imposed by the review and funding cycle.

Name of Committee: National Institute on Aging Special Emphasis Panel, Alzheimer's Disease Cooperative Study.

Date: February 28-March 1, 2001.

Time: 6 p.m. to 5 p.m.

Agenda: To review and evaluate grant applications.

Place: 8400 Wisconsin Avenue, Bethesda, MD 20814.

Contact Person: Ramesh Vemuri, PhD., Office of Scientific Review, National Institute on Aging, The Bethesda Gateway Building, 7201 Wisconsin Avenue, Suite 2C212, Bethesda, MD 20892, (301) 496-9666.

Name of Committee: National Institute on Aging Special Emphasis Panel.

Date: March 6-7, 2001.

Time: 7 p.m. to 4:30 p.m.

Agenda: To review and evaluate grant applications.

Place: John Hopkins University, Cognitive Neuropharmacology Unit, The Champlain Bldg, Suite 600, 6410 Rockledge Drive, Bethesda, MD 20817-1844.

Contact Person: Louise L. Hsu, PhD., Scientific Review Administrator, The Bethesda Gateway Building, 7201 Wisconsin Avenue, Suite 2C212, Bethesda, MD 20892, (301) 496-9666.

Name of Committee: National Institute on Aging Special Emphasis Panel.

Date: March 19, 2001.

Time: 1 p.m. to 4 p.m.

Agenda: To review and evaluate grant applications.

Place: 7201 Wisconsin Avenue, Bethesda, MD 20892 (Telephone Conference Call).

Contact Person: William A. Kachadorian, PhD, The Bethesda Gateway Building, 7201 Wisconsin Avenue, Suite 2C212, Bethesda, MD 20892, (301) 496-9666.

(Catalogue of Federal Domestic Assistance Program Nos. 93.866, Aging Research, National Institutes of Health, HHS)

Dated: February 2, 2001.
LaVerne Y. Stringfield,
Director, Office of Federal Advisory Committee Policy.

[FR Doc. 01-3470 Filed 2-9-01; 8:45 am]

BILLING CODE 4140-01-M